DEPARTMENT OF HEALTH AND HUMAN SERVICES

Administration for Children and Families

Early Learning Opportunities Act (ELOA) Discretionary Grants

Program Office Name: Administration for Children and Families, Administration on Children, Youth and Families, Child Care Bureau.

Funding Opportunity Title: Early Learning Opportunities Act (ELOA) Discretionary Grants.

Announcement Type: Competitive Grant-Initial.

Funding Opportunity Number: HHS-2004-ACF-ACYF-LO-0024.

CFDA Number: 93.577.

Due Date for Applications: Applications are due July 27, 2004.

Due Date for Letter of Intent (Optional): Letters of intent are due 3 weeks prior to application due date.

I. Funding Opportunity Description

Priority Area: I. Early Learning Opportunities Act

The Administration on Children, Youth and Families, Child Care Bureau announces the availability of funds and request for applications for its FY 2004 Early Learning Opportunities Act (ELOA) grants. Funds will be awarded to Local Councils that have been designated, as evidenced in a letter of designation, by an entity of local government, an Indian Tribe, Regional Corporation, or Native Hawaiian entity, as the Local Council for the purposes of applying for an ELOA grant. Local Councils must submit the results of a current needs and resources assessment and a plan, addressing the most significant needs. Local Councils are encouraged to promote the involvement of faith-based and community organizations and providers.

Local Councils must include: Representatives of local agencies that will be directly affected by early learning programs assisted under the ELOA; parents; other individuals concerned with early learning issues in the locality, such as representatives of entities providing elementary education, child care resource and referral services, early learning opportunities, child care, and health services; and, other key community leaders.

ELOA funds may be used to develop, operate, or enhance voluntary early learning programs that are likely to produce sustained gains in early learning. To be considered for funding, applications must include activities for “enhancing early childhood literacy” AND two or more of the other allowable activities: promoting effective parenting; helping parents, caregivers, child care providers, and educators increase their capacity to facilitate child development and promote learning readiness; developing linkages among and between early learning programs and health care services for young children; increasing access to early learning opportunities for young children with special needs; increasing access to existing early learning programs by expanding the days or times that young children are served, by expanding the number served, or by improving the affordability of the programs for low-income families; improving the quality of early learning programs through professional development and training activities, increased compensation, and recruitment and retention incentives for providers; and removing ancillary barriers to early learning, including transportation difficulties and absence of programs during nontraditional work times. ELOA funds may only be used for young children from birth to the age of mandatory school attendance in the State where the child resides. Construction and purchase of real property are not allowable.

A. The Child Care Bureau

The Child Care Bureau was established in 1995 to provide leadership to efforts to enhance the quality, affordability, and supply of child care. The Child Care Bureau administers the Child Care and Development Fund (CCDF), a $4.8 billion child care program that includes funding for child care subsidies and activities to improve the quality and availability of child care. CCDF was created after amendments to ACF child care programs by Title VI of the Personal Responsibility and Work Opportunity Reconciliation Act of 1996 consolidated four Federal child care funding streams including the Child Care and Development Block Grant, AFDC/JOBS Child Care, Transitional Child Care, and At-Risk Child Care. With related State and Federal funding, CCDF provides more than $11 billion a year to States, Territories, and Tribes to help low-income working families access child care services.

The Bureau works closely with ACF Regional Offices, States, Territories, and Tribes to assist with, oversee, and document implementation of new policies and programs in support of State, local, and private sector administration of child care services and systems. In addition, the Bureau collaborates extensively with other offices throughout the Federal government to promote integrated, family-focused services, and coordinated child care delivery systems. In all of these activities, the Bureau seeks to enhance the quality, availability, and affordability of child care services, support children's healthy growth and development in safe child care environments, enhance parental choice and involvement in their children's care, and facilitate the linkage of child care with other community services.

B. The Early Learning Opportunities Act

The Early Learning Opportunities Act (ELOA) was passed by Congress to award grants to States* to enable them to increase, support, expand and better coordinate early learning opportunities for children and their families through local community organizations. The purposes of the Act are:

• To increase the availability of voluntary programs, services, and activities that support early childhood development, increase parent effectiveness, and promote the learning readiness of young children so that they enter school ready to learn;

• To support parents, child care providers, and caregivers who want to incorporate early learning activities into the daily lives of young children;

• To remove barriers to the provision of an accessible system of early childhood learning programs in communities throughout the United States;

• To increase the availability and affordability of professional development activities and compensation for caregivers and child care providers; and

• To facilitate the development of community-based systems of collaborative service delivery models characterized by resource sharing, linkages between appropriate supports, and local planning for services.

* The Act provides that if the amount appropriated for this program in any fiscal year is less than $150 million, the Department of Health and Human Services (DHHS) shall award grants on a competitive basis directly to Local Councils. DHHS is administering the program under this special provision in Fiscal Year (FY) 2004.

C. Allowable Early Learning Activities and Preferred Action

In general, Local Councils may use ELOA funds to pay for developing, operating, or enhancing voluntary early learning programs that are likely to produce sustained gains in early learning. The President has identified the enhancement of early childhood literacy as a priority for this administration. Therefore, for FY 2004 grants, the Child Care Bureau will only consider for funding those Local Councils that include in their applications activities for “Enhancing Early Childhood Literacy” (see Item 1. below), AND two or more of the other allowable activities listed below (i.e., Items 2 through 8):

1. Enhancing early childhood literacy;

2. Helping parents, caregivers, child care providers, and educators increase their capacity to facilitate the development of cognitive, language comprehension, expressive language, social emotional, and motor skills, and promote learning readiness;

3. Promoting effective parenting;

4. Developing linkages among early learning programs within a community and between early learning programs and health care services for young children;

5. Increasing access to early learning opportunities for young children with special needs including developmental delays, by facilitating coordination with other programs serving such young children;

6. Increasing access to existing early learning programs by expanding the days or times that the young children are served, by expanding the number of young children served, or by improving the affordability of the programs for low-income families;

7. Improving the quality of early learning programs through professional development and training activities, increased compensation, and recruitment and retention incentives for early learning providers;

8. Removing ancillary barriers to early learning, including transportation difficulties and absence of programs during nontraditional work times.

Letter(s) of Designation (Designation of Local Council by Local Government Entity)

An eligible applicant for an FY 2004 ELOA grant must be a Local Council designated, in writing, by a local government entity(ies) (or Indian Tribe, Regional Corporation, or Native Hawaiian entity) as the “Local Council” to serve one or more localities for the purpose of applying for an ELOA discretionary grant. The applicant must include a “Letter of Designation” in its application from an appropriate local government entity(ies) specifically designating it as the Local Council for the purpose of applying for an ELOA discretionary grant.

Because the structure and authority of local governments differ greatly across the nation, and even within a State, it is the responsibility of the applicant to determine and identify the appropriate entity(ies) of local government to designate them as the Local Council for an ELOA grant application. The local government entity(ies) making the designation must also clearly explain in its letter the source/nature of its authority to make such a designation on behalf of the locality(ies) it represents. Examples of officials that may be authorized to sign the Letter of Designation on behalf of the local government entity(ies) include but are not limited to: Mayors, city managers, city councils, county boards of supervisors, county boards of commissioners, county administrators, Tribal Councils, boards of municipal officers, etc.

Applicants serving multiple localities (e.g., cities, townships, boroughs, counties) are strongly encouraged to obtain a Letter of Designation from an appropriate entity of local government from each of the localities to be served. Appendices A and B include sample Letters of Designation that meet this purpose. Applicants are strongly encouraged to utilize the language and format provided in the sample Letters of Designation. Appendix A is a sample Letter of Designation for a Local Council when the services of a Fiscal Agent will not be used, while Appendix B is a sample Letter of Designation for a Local Council that will use a Fiscal Agent.

Composition of a Local Council

To receive an award, the membership of the Local Council must be composed of the following:

a. Representatives of local agencies that will be directly affected by early learning programs assisted under the ELOA and this announcement;

b. Parents;

c. Other individuals concerned with early learning issues in the locality, such as representatives of entities providing elementary education, child care resource and referral services, early learning opportunities, child care, and health services; and

d. Other key community leaders.

See Section III, Additional Information on Eligibility, for more information on identifying the membership of their Local Council. Applicants are strongly encouraged to use the sample format in Appendix C to meet this purpose.

Local Councils are encouraged to include representatives and leaders of faith-based and community organizations and providers as members of the Local Council.

D. Definitions

Administrative Costs—means costs related to the overall management of the program, which do not directly relate to the provision of program services. These costs can be in both the personnel and non-personnel budget categories and include, but are not limited to: salaries of managerial and administrative staff, indirect costs, and other costs associated with administrative functions such as accounting, payroll services, or auditing.

Note: Not more than three percent of the total Federal share received by the Local Council through this announcement shall be used to pay for the “administrative costs” of the Local Council, including administrative costs of any sub-grantees and third parties in carrying out activities funded under the grant.

Budget Period—for the purposes of this announcement, budget period means the 17-month period of time for which ELOA funds are made available to a particular grantee (i.e., beginning on September 30, 2004, and ending on February 28, 2006).

Caregiver—means an individual, including a relative, neighbor, or family friend, who regularly or frequently provides care, with or without compensation, for a child for whom the individual is not the parent.

Child Care Provider—means a provider of non-residential child care services (including center-based, family-based, and in-home child care services) for compensation who or that is legally operating under State law, and in compliance with applicable State and local requirements for the provision of child care services.

Early Learning—when used with respect to a program or activity, means learning designed to facilitate the development of cognitive, language, motor, and social-emotional skills to promote learning readiness in young children (see definition of young child).

Early Learning Program—means a program of services or activities that helps parents, caregivers, and child care providers to incorporate early learning into the daily lives of young children; or a program that directly provides early learning to young children.

Indian Tribe—has the meaning given the term in section 4 of the Indian Self-Determination and Education Assistance Act (25 U.S.C. 450b).

Local Council—means a Local Council established or designated by a local government, Indian Tribe, Regional Corporation, or Native Hawaiian entity to serve as applicant under this announcement serving one or more localities.

Local Government—means a county, municipality, city, town, township, borough, parish, select board, council of local governments (whether or not incorporated as a non-profit corporation under State law), intra-state district, a general purpose unit of local government, and any other interstate or regional unit of local government. “Local Government” does not mean any of the 50 States, or any agency or instrumentality of a State exclusive of local governments.

Locality—means a city, county, borough, township, or area served by another general purpose unit of local government, an Indian Tribe, a Regional Corporation, or a Native Hawaiian entity.

Native Hawaiian Entity—means a private non-profit organization that serves the interests of Native Hawaiians, and is recognized by the Governor of Hawaii for the purpose of planning, conducting, or administering programs (or parts of programs) for the benefit of Native Hawaiians.

Non-Federal Share—means that portion of project costs not borne by the Federal government. Under ELOA, the minimum required Non-Federal Share is 15 percent of the total cost of the approved project.

Parent—means a biological parent, an adoptive parent, a stepparent, a foster parent, or a legal guardian of, or a person standing in loco parentis to a child.

Program Income—means gross income earned by the grantee or subgrantee that is directly generated by a grant supported activity, or earned only as a result of the award. 45 CFR Parts 74 and 92 include similar types of earned revenue, which qualify as program income. These include but are not limited to income from fees for services performed and the use of rental property.

Project Period—for the purposes of this announcement, project period means the 17-month period starting on September 30, 2004, and ending on February 28, 2006.

Real Property—means land, including land improvements, structures and appurtenances thereto, excluding movable machinery and equipment.

Regional Corporation—means a Native Alaska Regional Corporation; an entity listed in section 419(4)(B) of the Social Security Act (42 U.S.C. 619(4)(B)).

Training—means instruction in early learning that—(a) Is required for certification under State and local laws, regulations, and policies; (b) is required to receive a nationally or State recognized credential or its equivalent; (c) is received in a postsecondary education program focused on early learning or early childhood development in which the individual is enrolled; or (d) is provided, certified, or sponsored by an organization that is recognized for its expertise in promoting early learning or early childhood development.

Young Child—for purposes of this program, means any child from birth to the age of mandatory school attendance in the State where the child resides. Information on the compulsory school age in each State is available at http://nces.ed.gov/pubs2002/digest2001/tables/dt151.asp.

E. Protections

1. No person, including a parent, shall be required to participate in any program of early childhood education, early learning, parent education, or developmental screening pursuant to the provisions of the Early Learning Opportunities Act.

2. Nothing in the Early Learning Opportunities Act shall be construed to affect the rights of parents otherwise established in Federal, State, or local law.

3. No entity that receives funds under the Early Learning Opportunities Act shall be required to provide services under this announcement through a particular instructional method or in a particular instructional setting to comply with the ELOA.

Appendices: Appendices D and E of this announcement provide detail about current ELOA grants. Applicants are strongly encouraged to check these appendices to ensure that they are not proposing to offer services in a geographic area served by a current ELOA grantee.

II. Award Information

Funding Instrument Type: Grant.

Anticipated Total Program Funding: $33,579,313.

Anticipated Number of Awards: 30 to 50 per budget period.

Ceiling of Individual Awards: $1,000,000 per budget period.

Floor of Individual Awards: $250,000 per budget period.

Average Project Award Amount: $700,000 per budget period.

Project Periods for Awards: 17 months (project and budget period).

III. Eligibility Information

1. Eligible Applicants

Other: Please see Additional Information on Eligibility for specific eligibility guidelines.

Additional Information on Eligibility:

A. Letter(s) of Designation (Designation of Local Council by Local Government Entity)

An eligible applicant for an FY 2004 ELOA grant must be a Local Council designated, in writing, by a local government entity(ies) (or Indian Tribe, Regional Corporation, or Native Hawaiian entity) as the “Local Council” to serve one or more localities for the purpose of applying for an ELOA discretionary grant. The applicant must include a “Letter of Designation” in its application from an appropriate local government entity(ies) specifically designating it as the Local Council for the purpose of applying for an ELOA discretionary grant.

Because the structure and authority of local governments differ greatly across the nation, and even within a State, it is the responsibility of the applicant to determine and identify the appropriate entity(ies) of local government to designate them as the Local Council for an ELOA grant application. The local government entity(ies) making the designation must also clearly explain in its letter the source/nature of its authority to make such a designation on behalf of the locality(ies) it represents. Examples of officials that may be authorized to sign the Letter of Designation on behalf of the local government entity(ies) include but are not limited to: mayors, city managers, city councils, county boards of supervisors, county boards of commissioners, county administrators, Tribal Councils, boards of municipal officers, etc.

B. Composition of a Local Council

To receive an award, the membership of the Local Council must be composed of the following:

a. Representatives of local agencies that will be directly affected by early learning programs assisted under the ELOA and this announcement;

b. Parents;

c. Other individuals concerned with early learning issues in the locality, such as representatives of entities providing elementary education, child care resource and referral services, early learning opportunities, child care, and health services; and

d. Other key community leaders.

C. Designation of a Fiscal Agent by the Local Council

A Local Council may enter into an agreement with an entity that is affected by, or concerned with early learning issues, and that has a demonstrated capacity for administering grants, to serve as Fiscal Agent for the administration of grant funds received by the Local Council under this program. This may include faith-based organizations or a State.

While the Fiscal Agent will be identified as the recipient organization of the funds under this announcement (see Application for Federal Assistance, SF-424, Item 5), the Local Council, if selected to receive a grant, will be the Grantee and responsible for ensuring compliance with all activities and terms of the grant. Identifying information for the Fiscal Agent is entered in Item 5 (i.e., “Legal Name of Fiscal Agent applying on behalf of the Name of the Local Council”) and the Employer Identification Number (EIN) for the Fiscal Agent is entered in Item 6 on the Application for Federal Assistance (SF-424).

If a Local Council uses a Fiscal Agent, the Fiscal Agent's name and Employer Identification Number (EIN) must also be included in the “Letter of Designation” (see Appendix B).

D. Geographic Location and Locality(ies) To Be Served

At the beginning of the project descriptions, applicants must describe the precise location of the project and boundaries of the area to be served including the following: the State, county(ies), and specific locality(ies) (e.g., city, town, township, borough, parish, or area served by another general purpose unit of local government, Indian Tribe, Alaska Native Regional Corporation, or Native Hawaiian entity).

In general, Local Councils in each of the 50 States of the United States, the District of Columbia, and the Commonwealth of Puerto Rico are eligible to apply under this announcement.

However, since one of the ELOA statutory purposes is “to facilitate the development of community-based systems of collaborative service delivery and resource sharing,” only one application per geographic area will be considered. This is to avoid situations in which Local Councils serve overlapping areas. Specifically:

a. Applications received from competing applicants (Local Councils) that are proposing to serve the same or overlapping geographic areas will be disqualified and not competed for an award. For example, if a Local Council proposing to serve all of County X applies, and a Local Council proposing to serve only Community A, which is within County X, also applies, both applications will be excluded from the review and not competed for an award.

b. Further, applicants proposing to serve all or part of a geographic area currently being served by an ELOA grantee whose grant is expected to be in effect on September 30, 2004, will be excluded and not competed for an award (see Appendices D and E).

E. Council Designation and Other Provisions

a. Local Councils may include faith-based organizations in their membership, provided that the other eligibility criteria are met.

b. “Letter(s) of Support” for the Local Council from a local government entity(ies) will not be considered as meeting the eligibility requirement for a “Letter of Designation.”

c. Applications from Indian Tribes and Regional Corporations must include a tribal resolution from the governing body of the Tribe(s) or Regional Corporation(s), designating a Local Council for the purpose of the ELOA grant. The Tribal Council would not be considered a Local Council for ELOA unless its membership also meets the composition requirements (see Composition of Local Council).

d. “State” governments do not meet the definition of “Local Government” (see Part I (D)). Therefore, a Letter(s) of Designation from an entity(ies) of State Government will not be considered as meeting these eligibility requirements.

e. Local Councils that were formed prior to the date of enactment of the ELOA and that meet the membership requirements below will be considered eligible for the purposes of applying for an ELOA grant if a Letter(s) of Designation from an appropriate entity(ies) of local government is submitted as part of the application. In localities where a Local Council does not exist, one may be formed and designated for the purposes of applying for an ELOA grant.

f. FY 2002 ELOA grantees whose grant project period ends on or before September 29, 2004 are eligible to apply for an FY 2004 grant under this program announcement. Note: The project period for all grantees is noted in Block 9 of their “Financial Assistance Award” document.

g. To be considered eligible for a new award, current ELOA grantees may not have a pending request to extend their existing ELOA grant project period beyond September 29, 2004.

h. The 43 Local Councils (and the localities served by those Local Councils) that received FY 2003 ELOA grants will not be considered for FY 2004 awards under this announcement (see Appendix E).

i. Only Local Councils, not individuals or individual organizations/agencies, are eligible to apply under this announcement.

j. Applicants proposing to use ELOA funds for construction purposes or for the purchase of real property will be disqualified and not competed for an award.

k. Nonprofit organizations submitting an application must submit proof of their nonprofit status at the time of their submission. This can be accomplished by providing: (1) A copy of the applicant's listing in the Internal Revenue Service's (IRS) most recent list of tax-exempt organizations described in Section 501(c)(3) of the IRS code; (2) a copy of the currently valid IRS tax exemption certificate; (3) a copy of the articles of incorporation bearing the seal of the State; (4) a statement from a State taxing body, State Attorney General, or other appropriate State official certifying that the applicant organization has a non-profit status and that none of the net earnings accrue to any private shareholders or individuals; (5) a certified copy of the organization's certificate of incorporation or similar document that clearly establishes non-profit status; or (6) any of the items in the subparagraphs immediately above for a State or national parent organization and a statement singed by the parent organization that the applicant organization is a local non-profit affiliate.

F. Set Aside

The Act (section 809) provides that the Secretary shall reserve a portion of each year's total ELOA appropriation for Indian Tribes, Regional Corporations, and Native Hawaiian entities. ACF anticipates competitively awarding funds to at least one Local Council designated by an Indian Tribe and one Local Council designated by an Alaska Native Regional Corporation or Native Hawaiian entity, subject to receipt of applications meeting the requirements of the Act as reflected in this announcement. ACF is setting aside no less than one percent of the FY 2004 ELOA appropriation for these purposes.

Applicants are cautioned that the ceiling for individual awards is $1,000,000. An application that exceeds $1,000,000 will be considered non-responsive and be returned to the applicant without further review.

2. Cost Sharing or Matching

Yes.

Grantees must provide at least 15 percent of the total approved project cost. The total approved project cost is the sum of the ACF share and the non-federal share. The non-federal share may be met by cash or in-kind contributions, although applicants are encouraged to meet their match requirements through cash contributions. For example, in order to meet the match requirements, a project with a total approved cost of $500,000, requesting in ACF funds, must provide a non-federal share of at least $88,235 (15 percent of the total approved project cost). To compute the non-Federal share: Divide the Federal share by .85 and subtract the Federal share from that amount. For example: $500,000 ÷ .85 = $588,235 minus $500,000 = $88,235. The total approved project cost in this example is $588,235. Grantees will be held accountable for commitments of non-federal resources even if over the amount of the required match. Failure to provide the amount will result in disallowance of Federal funds.

Applications that fail to include the required amount of cost-sharing will be considered as non-responsive and will not be eligible for funding under this announcement.

3. Other

Dun and Bradstreet Data Universal Numbering System

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement, and block grant programs, submitted on or after October 1, 2003.

Please ensure that your organization has a DUNS number. You may acquire a DUNS number at no cost by calling the dedicated toll-free DUNS number request line on 1-866-705-5711 or you may request a number on-line at http://www.dnb.com.

Applications exceeding the $1,000,000 threshold will be returned without review.

Applications that fail to include the required amount of cost-sharing will be considered non-responsive and will not be eligible for funding under this announcement.

IV. Application and Submission Information

1. Address to request an application package: ACYF Operations Center, c/o The Dixon Center, Inc., ELOA/CCB, 118 Q Street NE., Washington, DC 20002-2132, 1-866-796-1591, CCB@dixongroup.com.

2. Content and Form of Application Submission: To be considered for funding, the applicant must submit one signed original and two copies of the application, including all attachments, to the application receipt point specified above. The original copy of the application must have original signatures, signed in blue ink. The original must be stapled (back and front) in the upper left corner. Rubber bands may be used to secure the pages of the two copies. The original application and the two copies must be submitted in a single package. Applicants have the option of omitting from the application copies (not the original) specific salary rates or amounts for individuals specified in the application budget.

Each application will be duplicated, therefore, please do not use or include colored paper, colored ink, separate covers, binders, clips, tabs, plastic inserts, over-sized paper, videotapes, or any other items that cannot be easily duplicated on a photocopy machine with an automatic feed. Do not bind, clip, staple, or fasten in any way separate subsections of the application, including the supporting documentation. Applicants are advised that a copy (not the original) of the application as submitted will be reproduced by the Federal government for review by the panel of evaluators.

Letters of Intent: Applicants are strongly encouraged to notify Ms. Taryonka Reid at the Child Care Bureau by fax (202-690-5600) at least three weeks prior to the deadline. Your fax should include the following information: number and title of this announcement (required); the name and address of the Local Council (required) and Fiscal Agent (if known); and your contact person's name, phone number, fax number, and email address. This information will be used to determine the number of expert reviewers needed to evaluate applications and to update the mailing list for future program announcements. Do not include a description of your proposed project.

A complete application consists of the following items in the order listed:

1. Application for Federal Assistance (Standard Form 424, Rev. 9-2003)—Follow the instructions on the back of the form. In Item 5 on the SF-424, enter the name of the applicant [Local Council]. However, if the Local Council is not incorporated or does not have an Employer Identification Number (EIN) issued by the Internal Revenue Service, the name of its fiscal agent must be entered followed by “on behalf of the [name of Local Council].” For example: Caring County Community Services on behalf of the Early Childhood Alliance Local Council. Enter the EIN of the Local Council, or if applicable, its Fiscal Agent, in Item 6. The EIN entered in Item 6 must be the number assigned to the entity identified in Item 5. In Item 8 on the SF-424, check “New.” In Item 10, clearly identify the Catalog of Federal Domestic Assistance program title and number (i.e., Early Learning Opportunities Act, 93.577). A signature on the application constitutes an assurance that the applicant will comply with the relevant Departmental regulations contained in 45 CFR Part 74 or Part 92.

2. Budget Information—Non-Construction Programs (Standard Form 424A). Follow the instructions on the back of the form.

3. Assurances—Non-Construction Programs (Standard Form 424B). A duly authorized representative of the applicant organization must certify that the applicant is in compliance with the Pro-Children Act of 1994 (Certification Regarding Environmental Tobacco Smoke).

4. Certification Regarding Lobbying—Applicants must include an executed Certification Regarding Lobbying prior to receiving an award in excess of $100,000.

5. Cover Letter—Applicants must include a Cover Letter that includes the program announcement number and contact information for the applicant. The letter must be signed by an individual authorized to act for the applicant agency and to assume responsibility for the obligations imposed by terms and conditions of the grant award.

6. Required Letter of Designation for the Local Council—Applicants must include a signed Letter(s) of Designation for the Local Council from a local government entity(ies) that explains its authority to make such a designation and includes the required information on the membership composition of the Local Council. NOTE: “Letter(s) of Support” for the Local Council from a local government entity(ies) will not be considered as meeting the requirements for a Letter of Designation.

7. Membership Composition of the Local Council (see Appendix C).

8. Tribal Resolution, if applicable.

9. Table of Contents.

10. A Project Summary/Abstract (one page maximum)—Clearly mark this page with the applicant's name as shown in Item 5 on the SF-424 (e.g., Caring County Community Services on behalf of the Early Childhood Alliance Local Council), identify the title of the proposed project as shown in Item 11 (e.g., Building Resources for Early Learning Opportunities in Caring County), and the service area as shown in Item 12 of the SF-424 (e.g., Caring County). The Project Description Summary/Abstract must not exceed 300 words. The first paragraph must describe the precise location of the project and the boundaries of the area to be served including the following: The State, county(ies), specific locality(ies) (e.g., city, county, borough, township, parish, etc.) and/or region(s). Care should be taken to produce a Summary/Abstract that accurately and concisely reflects the proposed project. It should briefly describe the objectives of the project, the approach to be used, and the results and benefits expected. The Project Summary/Abstract must also clearly state which of the eight allowable ELOA activities are included in the project. Note: All applicants are required to include activities for “enhancing early childhood literacy” in their projects.

11. The Project Narrative—The applicant is strongly encouraged to use the evaluation criteria to organize its response. Specific information should be provided that addresses all components of each criterion. Local Councils receiving assistance under the ELOA shall ensure that programs, services, and activities assisted under this program, which customarily require a payment for such programs, services, or activities, adjust the cost of such programs, services, and activities provided to the individual or the individual's child based on the individual's ability to pay. It is in the applicant's best interest to ensure that the project description is easy to read, logically developed in accordance with the evaluation criteria, and adheres to recommended page limitations. In addition, the applicant should be mindful of the importance of preparing and submitting applications using language, terms, concepts, and descriptions that are generally known to the field of early learning as defined under this announcement. The pages of the project description must be double-spaced, printed in black only, printed on only one side, with no less than one-inch margins, and numbered. Applicants are strongly encouraged to limit this portion of their application to no more than 100 pages.

12. Appendices—The recommended maximum number of pages for supporting documentation is 50 numbered pages. These documents might include excerpts from the needs and resources assessment, resumes/job descriptions, photocopies of news clippings, documents related to the involvement and participation of the Local Council, and evidence of its efforts to coordinate early care and education services at the local level including letters of support and/or third-party agreements.

Private, non-profit organizations are encouraged to submit with their applications the survey located under “Grant Related Documents and Forms,” titled “Survey for Private, Non-Profit Grant Applicants.” The forms are located on the web at http://www.acf.hhs.gov/programs/ofs/forms.htm.

3. Submission Dates and Times

The closing time and date for submission of applications is July 27, 2004. Mailed applications postmarked after the closing date will be classified as late.

Mailed applications shall be considered as meeting an announced deadline if they are post-marked on or before the deadline date and received by ACF in time for the independent review. All applications must be sent to: ACYF Operations Center, c/o The Dixon Group, ELOA/CCB, 118 Q Street NE, Washington, DC 20002-2132, Telephone: 1-866-796-1591.

Applicants must ensure that a legibly dated U.S. Postal Service postmark or a legibly dated, machine produced postmark of a commercial mail service is affixed to the envelope/package containing the application(s). To be acceptable as a proof of timely mailing, a postmark from a commercial mail service must include the logo/emblem of the commercial mail service company and must reflect the date the package was received by the commercial mail service company from the applicant. Private metered postmarks will not be acceptable as proof of timely mailing. Applicants are cautioned that express/overnight mail services do not always deliver as agreed.

Applicants are responsible for mailing applications well in advance, when using all mail services, to ensure that the applications are postmarked before the closing date OR received before the receipt deadline time of 4:30 p.m. (Eastern Time).

Applications hand-carried by applicants, applicant couriers, or by other representatives of the applicant shall be considered as meeting an announced deadline if they are received on or before the closing date, between the hours of 8 a.m. and 4:30 p.m. (Eastern Time), Monday through Friday (excluding Federal holidays) at the above address. The address must appear on the envelope/package containing the application with the note “Attention: ACYF Operations Center, ELOA/CCB”. (Applicants are cautioned that express/overnight mail services do not always deliver as agreed.)

ACF cannot accommodate transmission of applications by fax. Therefore, applications transmitted to ACF by fax will not be accepted regardless of date or time of submission and time of receipt.

Late Applications: Applications which do not meet the criteria above are considered late applications. ACF will notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Receipt of Application: Applicants will be sent a postcard acknowledging receipt of their application.

Technical Assistance to Prospective Applicants: Applicants should direct questions about the application process to the ACYF Operations Center at 1-866-796-1591 or by e-mail at ccb@dixongroup.com and refer to the Funding Opportunity Number: HHS-2004-ACF-ACYF-LO-XXXX.

Required Forms and Due Date for Applications:

What to submit | Required content | Required form or format | When to submit
Standard Application for Federal Assistance (forms SF 424, 424A, and 424B) | Per required form | May be found at http://www.acf.hhs.gov/programs/ofs/forms.htm | By application due date.
Certification regarding Lobbying and associated Disclosure of Lobbying Activities (SF LLL) | Per required form | May be found at http://www.acf.hhs.gov/programs/ofs/forms.htm | By application due date.
Environmental Tobacco Smoke Certification | Per required form | May be found at http://www.acf.hhs.gov/programs/ofs/forms.htm | By application due date.
Proof of Non-Profit Status (if applicable) | See Section III.3.F.k | May be found at http://www.acf.hhs.gov/programs/ofs/forms.htm | By application due date.
Cover Letter | Include the program announcement number and contact information for the applicant. The letter must be signed by an individual authorized to act for the applicant agency and to assume responsibility for the obligations imposed by terms and conditions of the grant award | No required format | By application due date.
Letter of Designation for the Local Council (and Fiscal Agent, if appropriate) from an entity(ies) of local government | See Appendices A & B | Appendix A must be used by Local Councils not using a Fiscal Agent Appendix B must be used by Local Councils that will be using a Fiscal agent | By application due date.
Composition of Local Council | See Appendix C | Name of each member of the Local Council, their title, role (see Legend below), and agency Legend: | By application due date.
|  | A = Representatives of local agencies that will be directly affected by early learning programs assisted under the ELOA and this announcement
|  | B = Parents
|  | C = Other individuals concerned with early learning issues in the locality, such as representatives of entities providing elementary education, child care resource and referral services, early learning opportunities, child care, and health services
|  | D = Other key community leaders
Tribal Resolution, if applicable | Language designating the Local Council for the purpose of applying for an ELOA grant | Fully-executed Tribal Resolution including: resolution number, date, voting information, and authorized signatures | By application due date.
Table of Contents | List of application contents with page numbers or Appendix information | None | By application due date.
Project Summary/Abstract | See Sections V.1.A | Clearly mark this page with the applicant's name as shown in Item 5 on the SF-424 (e.g., Caring County Community Services on behalf of the Early Childhood Alliance Local Council), identify the title of the proposed project as shown in Item 11 (e.g., Building Resources for Early Learning Opportunities in Caring County), and the service area as shown in Item 12 of the SF-424 (e.g., Caring County). The Project Summary/Abstract must not exceed 300 words. The first paragraph must describe the precise location of the project and the boundaries of the area to be served including the following: the State, county(ies), specific locality(ies) (e.g., city, county, borough, township, parish, etc.) and/or region(s). Care should be taken to produce a Summary/Abstract that accurately and concisely reflects the proposed project. It should briefly describe the objectives of the project, the approach to be used, and the results and benefits expected. The Project Summary/Abstract must also clearly state which of the eight allowable ELOA activities are included in the project. NOTE: All applicants are required to include activities for “enhancing early childhood literacy” in their projects | By application due date.
Project Narrative | See Section V.A and V.B. | The applicant is strongly encouraged to use the evaluation criteria to organize its response. Specific information should be provided that addresses all components of each criterion. Local Councils receiving assistance under the ELOA shall ensure that programs, services, and activities assisted under this program, which customarily require a payment for such programs, services, or activities, adjust the cost of such programs, services, and activities provided to the individual or the individual's child based on the individual's ability to pay. It is in applicant's best interest to ensure that the project narrative is easy to read, logically developed in accordance with the evaluation criteria, and adheres to recommended page limitations. In addition, the applicant should be mindful of the importance of preparing and submitting applications using language, terms, concepts, and descriptions that are generally known to the field of early learning as defined under this announcement. The pages of the project narrative must be double-spaced, printed in black only, printed on only one side, with no less than one-inch margins, and the numbered. Applicants are strongly encouraged to limit this portion of their application to no more than 100 pages | By application due date.
Appendices | As needed | The recommended maximum number of pages for supporting documentation is 50 numbered pages. These documents might include excerpts from the needs and resources assessment, resumes/job descriptions, photocopies of news clippings, documents related to the involvement and participation of the Local Council, and evidence of its efforts to coordinate early care and education services at the local level including letters of support and/or third-party agreements | By application due date.

Additional Forms:

Additional forms: Private-non-profit organizations are encouraged to submit with their applications the additional survey located under “Grant Related Documents and Forms” entitled “Survey for Private, Non-Profit Grant Applicants.”

What to submit | Required content | Required form or format | When to submit
Survey for Private, Non-Profit Grant Applicants | Per required form | May be found on http://www.acf.hhs.gov/programs/ofs/form.htm | By application due date.

4. Intergovernmental Review

State Single Point of Contact (SPOC)

This program is not covered under Executive Order 12372, “Intergovernmental Review of Federal Programs,” and 45 CFR Part 100, “Intergovernmental Review of Department of Health and Human Services Programs and Activities.”

5. Funding Restrictions

(a) Since one of the ELOA statutory purposes is “to facilitate the development of community-based systems of collaborative service delivery and resource sharing,” only one application per geographic area will be considered. This is to avoid situations in which Local Councils serve overlapping areas. Specifically:

(i) Applications received from competing applicants (Local Councils) that are proposing to serve the same or overlapping geographic areas will be disqualified and not competed for an award. For example, if a Local Council proposing to serve all of County X applies, and a Local Council proposing to serve only Community A, which is within County X, also applies, both applications will be excluded from the review and not competed for an award; and

(ii) Applicants proposing to serve all or part of a geographic area currently being served by an ELOA grantee whose grant is expected to be in effect on September 30, 2004 will be excluded and not competed for an award (see Appendices D and E).

(b) Set Aside: The Act (section 809) provides that the Secretary shall reserve a portion of each year's total ELOA appropriation for Indian Tribes, Regional Corporations, and Native Hawaiian entities. ACF anticipates competitively awarding funds to at least one Local Council designated by an Indian Tribe and one Local Council designated by an Alaska Native Regional Corporation or Native Hawaiian entity, subject to receipt of applications meeting the requirements of the Act as reflected in this announcement. ACF is setting aside no less than one percent of the FY 2004 ELOA appropriation for these purposes.

(c) Pre-award costs are not allowable.

(d) The required 15 percent non-Federal share may be contributed in cash or in-kind, fairly evaluated, including facilities, equipment, or services, which may be provided from State or local public sources, or through donations from private entities. For the purposes of this paragraph, the term “facilities” includes the use of facilities, but, the term “equipment” means donated equipment and not the use of equipment.

(e) Applicants are discouraged from providing non-Federal share resources in excess of the required 15 percent. Applicants that provide more than the required 15 percent will not receive any additional credit or points under the evaluation criteria. Grantees will be held accountable on the grant award commitments of the non-Federal share even if the approved amount exceeds the required 15 percent.

(f) Funds received by grantees shall be used to supplement and not supplant other Federal, State, and local public funds expended to promote early learning. No funds provided shall be used to carry-out an activity funded under another provision of law providing for Federal child care or early learning programs, unless an expansion of such activity is identified in the local needs assessment and performance goals.

(g) Not more than three percent of the total Federal share received by the Local Council through this announcement shall be used to pay for the administrative costs of the Local Council, including the administrative costs of any of its sub-grantees and third parties, in carrying-out activities funded under the grant.

(h) Local Councils receiving assistance under the ELOA shall ensure that programs, services, and activities assisted under this program, which customarily require a payment for such programs, services, or activities, adjust the cost of such programs, services, and activities provided to the individual or the individual's child based on the individual's ability to pay.

(i) Applications proposing to use ELOA funds for construction purposes or for the purchase of real property will not be considered for funding.

6. Other Submission Requirements

Submission by Mail: Mailed applications shall be considered as meeting an announced deadline if they are post-marked on or before the deadline date and received by ACF in time for the independent review. All applications must be sent to: ACYF Operations Center, c/o The Dixon Group, ELOA/CCB, 118 Q Street NE, Washington, DC 20002-2132, Telephone: 1-866-796-1591.

Applicants must ensure that a legibly dated U.S. Postal Service postmark or a legibly dated, machine produced postmark of a commercial mail service is affixed to the envelope/package containing the application(s). To be acceptable as a proof of timely mailing, a postmark from a commercial mail service must include the logo/emblem of the commercial mail service company and must reflect the date the package was received by the commercial mail service company from the applicant. Private metered postmarks will not be acceptable as proof of timely mailing. Applicants are cautioned that express/overnight mail services do not always deliver as agreed.

Applicants are responsible for mailing applications well in advance, when using all mail services, to ensure that the applications are postmarked before the closing date OR received before the receipt deadline time of 4:30 PM (Eastern Time).

Hand Delivery: Applications hand-carried by applicants, applicant couriers, or by other representatives of the applicant shall be considered as meeting an announced deadline if they are received on or before the closing date, between the hours of 8 AM and 4:30 PM (Eastern Time), Monday through Friday (excluding Federal holidays) at the above address. The address must appear on the envelope/package containing the application with the note “Attention: ACYF Operations Center, ELOA/CCB”. (Applicants are cautioned that express/overnight mail services do not always deliver as agreed.)

V. Application Review Information

1. Criteria

The Project Description—Overview

The following are instructions and guidelines on how to prepare the “Project Summary/Abstract” and “Full Project Description” sections of the application. Under the evaluation criteria section, note that each criterion is preceded by the generic evaluation requirement under the ACF Uniform Project Description (UPD). Public Reporting for this collection of information is estimated to average 25 hours per response, including the time for reviewing instructions, gathering and maintaining the data needed, and reviewing the collection information.

The project description is approved under OMB Control Number 0970-0139 which expires 4/30/2007.

An agency may nor conduct or sponsor, and a person is not required to respond to, a collection of information unless it displays a currently valid OMB control number.

Purpose: The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

General Instructions: ACF is particularly interested in specific factual information and statements of measurable goals in quantitative terms. Project descriptions are evaluated on the basis of substance, not length. Extensive exhibits are not required. Cross-referencing should be used rather than repetition. Supporting information concerning activities that will not be directly funded by the grant or information that does not directly pertain to an integral part of the grant-funded activity should be placed in an appendix.

Pages should be numbered and a table of contents should be included for easy reference.

A. Project Summary/Abstract: Provide a summary of the project description (one page or less) with reference to the funding request.

B. Objectives and Need for Assistance: Clearly identify the physical, economic, social, financial, institutional, and/or other problem(s) requiring a solution. The need for assistance must be demonstrated and the principal and subordinate objectives of the project must be clearly stated; supporting documentation, such as letters of support from concerned parties other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

C. Approach: Outline a plan of action, which describes the scope and detail of how the proposed work will be accomplished. Account for all functions or activities identified in the application. Cite factors, which might accelerate or decelerate the work and state your reason for taking the proposed approach rather than others. Describe any unusual features of the project such as design or technological innovations, reductions in cost or time, or extraordinary social and community involvement.

Local Councils are encouraged to promote the involvement of faith-based providers in their projects. In developing the local plans and activities, ACF encourages Local Councils to incorporate strategies and activities that involve fathers and strengthen families.

Provide quantitative monthly or quarterly projections of the accomplishments to be achieved for each function or activity in such terms as the number of people to be served and the number of activities accomplished. For example, for any project that will include informal caregivers, including friends, family and in-home child care providers, or caregivers who are somewhat isolated, such as child care providers who operate alone or in rural areas, please describe the means by which training and technical assistance will be made available to such informal and/or isolated caregivers and quality child care will be supported/assured. The Child Care Bureau is interested in encouraging the appropriate use of innovative approaches, especially including distance learning techniques and other uses of technology, to meeting the needs of child care providers and parents. If distance learning techniques, such as use of public television, satellite downlinks, or Internet-based instruction, will be used for this purpose, please describe those techniques. When accomplishments cannot be quantified by activity or function, list them in chronological order to show the schedule of accomplishments and their target dates.

If any data is to be collected, maintained, and/or disseminated, clearances may be required from the U.S. Office of Management and Budget (OMB). This clearance pertains to any “collection of information that is conducted or sponsored by ACF.”

List organizations, cooperating entities, consultants, or other key individuals who will work on the project along with a short description of the nature of their effort or contribution.

D. Results and Benefits Expected: Identify the results and benefits to be derived. For example, explain how your proposed project will achieve the specific goals and objectives you have set; specify the number of children and families to be served, and how the services to be provided will be funded consistent with the local needs assessment. Or, explain how the expected results will benefit the population to be served in meeting its needs for early learning services and activities. What benefits will families derive from these services? How will the services help them? What lessons will be learned which might help other agencies and organizations that are addressing the needs of a similar client population?

E. Evaluation: Provide a narrative addressing how the results of the project and the conduct of the project will be evaluated. In addressing the evaluation of results, state how you will determine the extent to which the project has achieved its stated objectives, and the extent to which the accomplishment of objectives can be attributed to the project. Discuss the criteria to be used to evaluate results, and explain the methodology that will be used to determine if the needs identified and discussed are being met, and if the project results and benefits are being achieved. With respect to the conduct of the project, define the procedures to be employed to determine whether the project is being conducted in a manner consistent with the work plan presented and discuss the impact of the project's various activities on the project's effectiveness.

F. Geographic Location: Describe the precise geographic location of the project and boundaries of the area to be served by the proposed project. Maps or other graphic aids may be attached.

G. Organizational Profiles: Provide information on the applicant organizations(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

1. Non-Profit Status: This can be accomplished by providing: (1) A copy of the applicant's listing in the Internal Revenue Service's (IRS) most recent list of tax-exempt organizations described in Section 501(c)(3) of the IRS code; (2) a copy of the currently valid IRS tax exemption certificate; (3) a copy of the articles of incorporation bearing the seal of the State; (4) a statement from a State taxing body, State Attorney General, or other appropriate State official certifying that the applicant organization has a non-profit status and that none of the net earnings accrue to any private shareholders or individuals; (5) a certified copy of the organization's certificate of incorporation or similar document that clearly establishes non-profit status; or (6) any of the items in the subparagraphs immediately above for a State or national parent organization and a statement singed by the parent organization that the applicant organization is a local non-profit affiliate.

2. Staff and Position Data: Provide a biographical sketch for each key person appointed and a job description for each vacant key position. A biographical sketch will also be required for new key staff as appointed.

3. Third-Party Agreements: Include written agreements between grantees and sub-grantees or subcontractors or other cooperating entities. These agreements must detail the scope of work to be performed, work schedules, remuneration, and other terms and conditions that structure or define the relationship.

4. Letters of Support: Provide statements from the community, public and commercial leaders that support the project proposed for funding. All documents must be included in the application at the time of submission.

5. Plan for Project Continuance Beyond Grant Support: Provide a plan for securing resources and continuing project activities after Federal assistance has ceased.

H. Budget and Budget Justification: Provide line item detail and detailed calculations for each budget object class identified in the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Applicants have the option of omitting from the application copies (not the original) specific salary rates or amounts for individuals specified in the application budget and Social Security Numbers, if otherwise required for individuals. The copies may include summary salary information.

General: The following are guidelines for preparing the budget and budget justification. Both Federal and non-Federal resources shall be detailed and justified in the budget and narrative justification. For purposes of preparing the budget and budget justification, “Federal resources” refers only to the ACF grant for which you are applying. Non Federal resources are all other Federal and non-Federal resources. It is suggested that budget amounts and computations be presented in a columnar format: First column, object class categories; second column, Federal budget; next column(s), non-Federal budget(s), and last column, total budget. The budget justification should be a narrative.

Detailed calculations must include estimation methods, quantities, unit costs, and other similar quantitative detail sufficient for the calculation to be duplicated. The applicant should specify the costs for the entire 17-month ELOA project period, not separate costs into a 12-month and five-month budgets. For example: To compute salary costs for a full-time employee who will be employed for the entire 17-months of the ELOA project, divide the annual salary by 12 and then multiply by 17. To compute the costs for a full-time employee who will be paid by the hour for the entire 17-month project, multiply 2,947 hours by the hourly wage. The full-time equivalent for a 12-month position is 2,080 hours.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops must be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information, which supports the amount requested.

Contractual

Description: Costs of all contracts for services and goods except for those that belong under other categories such as equipment, supplies, construction, etc. Third party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000). Recipients might be required to make available to ACF pre-award review and procurement documents, such as request for proposals or invitations for bids, independent cost estimates, etc. Regulatory procurement standards for grantees can be found in 45 CFR 74.40-48; 74.43 addresses the need for competition.

Note: Whenever the applicant intends to delegate part of the project to another agency, the applicant must provide a detailed budget and budget narrative for each delegate agency, by agency title, along with the required supporting information referred to in these instructions.

Other

Description: Enter the total of all other costs. Such costs, where applicable and appropriate, may include but are not limited to insurance, food, medical and dental costs (non-contractual), professional services costs, space and equipment rentals, printing and publication, computer use, training costs, such as tuition and stipends, staff development costs, and administrative.

Justification: Provide computations, a narrative description, and a justification for each cost under this category.

Indirect Charges

Description: Total amount of indirect costs. This category should be used only when the applicant currently has a current negotiated indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Program Income

Description: The estimated amount of income, if any, expected to be generated from this project.

Justification: Describe the nature, source, and anticipated use of program income in the budget or refer to the pages in the application, which contain this information.

Non-Federal Resources

Description: Amounts of non Federal resources that will be used to support the project as identified in Block 15 of the SF-424.

Justification: The firm commitment of these resources must be documented and submitted with the application in order to be given credit in the review process. A detailed budget must be prepared for each funding source.

Total Direct Charges, Total Indirect Charges, Total Project Costs

[Self-explanatory]

Evaluation Criteria

Criterion 1. Objectives and Need for Assistance (25 Points)

1. The extent to which the applicant demonstrates the need for assistance including identification and discussion of its needs and resources assessment concerning early learning services and the relevancy of the results as the basis for determining its objectives and need for assistance for early learning services. Relevant data from the needs and resources assessment should be included. Participant and beneficiary information must also be included.

2. The extent to which the applicant describes the context of the proposed project, including the characteristics of the community, magnitude, and severity of the problem, and the needs to be addressed.

3. The extent to which the applicant presents a vision of the project it anticipates developing; defines its goals and specific measurable objectives of the project; describes how its goals and objectives are linked together; and explains how implementation will fulfill the purposes of the ELOA. The extent to which the applicant demonstrates an understanding that goals are end products of a project, while objectives are measurable steps toward attainment of the goals. The extent to which the applicant demonstrates a thorough understanding of the importance of early learning services and activities that help parents, caregivers, and child care providers incorporate early learning into the daily lives of young children, as well as programs that directly provide early learning to young children.

4. The extent to which the applicant demonstrates how it will support activities/projects that maximize the use of resources through collaboration with other early learning programs, provide continuity of services for young children across the age spectrum, and help parents and other caregivers promote early learning with their young children.

5. The extent to which the applicant demonstrates that it has worked with local education agencies to identify cognitive, social, and emotional, and motor developmental abilities which are necessary to support children's readiness for school; that the programs, services, and activities assisted under this title will represent developmentally appropriate steps toward the acquisition of those abilities; and, that the programs, services, and activities assisted provide benefits for children cared for in their own homes as well as children placed in the care of others.

Criterion 2. Approach (25 Points)

1. The extent to which the applicant describes its project design, services, product development and dissemination. The extent to which the applicant presents an approach that: (a) Reflects an understanding of the characteristics, needs, and services currently available to the target population; (b) is based on current theory, research, and/or best practices; (c) is appropriate and feasible; (d) can be reliably evaluated; (e) could be replicated, if successful; and (f) can be sustained after Federal funding has ceased.

2. The extent to which the applicant includes a detailed plan that identifies goals and objectives, relates those goals and objectives to the findings of its needs and resources assessment, and provides a work plan identifying specific activities necessary to accomplish the stated goals and objectives. The extent to which the plan demonstrates that each of the project objectives and activities supports the current needs and resource assessment and can be accomplished with the available or expected resources during the proposed project period.

3. The extent to which the plan: (a) Describes the sequence and timing of the major activities, tasks and subtasks, important milestones, and reports, and indicates when each will be accomplished (a timeline is recommended). The extent to which the applicant's plan provides quantitative monthly or quarterly projections of the accomplishments to be achieved for each function or activity in such terms as the number of people to be served and the number of activities accomplished. When accomplishments cannot be quantified by activity or function, the extent to which the accomplishment are listed in chronological order to show the schedule of accomplishments and target dates.

4. The extent to which the applicant: (a) Specifies who will conduct the activities under each objective; (b) describes how subcontractors will be chosen and held accountable for carrying out activities in compliance with this application, and grant terms and conditions; (c) describes how actual and perceived conflict of interest will be avoided if the Local Council is also a direct service provider; and (d) indicates how programs, services, and activities will be provided based on the family's ability to pay (for those services that customarily require a payment).

5. The extent to which the applicant describes how the project will form collaborations among local early learning, youth, social service, educational providers (including faith-based organizations) and, as appropriate, organizations that can facilitate distance learning, to maximize resources and concentrate efforts on areas of greatest need.

6. The extent to which the applicant describes its work with local educational agencies to identify cognitive, social, emotional, and motor developmental abilities, which are necessary to support children's readiness for school.

7. The extent to which the applicant's programs, services, and activities assisted under ELOA will represent developmentally appropriate steps toward the acquisition of those abilities.

8. The extent to which the applicant's programs, services, and activities assisted under this announcement provide benefits for children cared for in their own homes as well as children placed in the care of others.

9. The extent to which the applicant's plan: (a) Describes how the project will be structured and managed; (b) defines the procedures to be used to determine whether the project is being conducted in a manner consistent with the work plan; (c) lists organizations, cooperating entities, consultants, or other key individuals who will work on the project along with a short description of the nature of their effort or contribution to the project; (d) discusses the impact of the project's various activities on the project's effectiveness including factors that may affect project implementation or outcomes and presents realistic strategies for resolution of these difficulties; (e) describes how timeliness of activities will be ensured, how quality control will be maintained, and how costs will be controlled; and (f) describes how unanticipated problems will be resolved to ensure that the project will be completed on time and with a high degree of quality.

10. If the project includes the use of any distance learning techniques in support of informal or isolated child care providers, the extent to which the purposes of distance learning are clearly described and appropriate objectives are identified for specific types of child care providers. (If distance learning is not an element of the project, this sub-criterion does not apply.)

Criterion 3. Results and Benefits Expected (15 Points)

1. The extent to which the applicant specifies the number of children and families to be served and how the services to be provided will be funded consistent with the results of the needs assessment.

2. The extent to which the applicant explains how the expected results will benefit the population to be served in meeting its needs for early learning services and activities.

3. The extent to which the applicant demonstrates that completion of the proposed objectives will result in specific, measurable results.

Criterion 4. Evaluation (15 Points)

1. The extent to which the applicant appropriately links its needs and resources assessment, proposed activities, and anticipated results and benefits, and describes how the proposed evaluation will demonstrate the effectiveness of its activities and services in addressing the needs identified under its needs and resources assessment. The extent to which the applicant demonstrates how the results or benefits identified for each objective will serve as standards for evaluating the achievement of objectives at the end of the project period (i.e., 17 months).

2. The extent to which the applicant's evaluation plan includes a process component that describes the activities of the project, how the project will operate, how well the design was followed, and the extent to which it produced the expected results. The extent to which the applicant's should contain an outcome component with output and outcome measures. For example, in addition to numbers of families and children served, what benefits did families derive from these services?

3. The extent to which the applicant demonstrates the relationships among the needs identified in the needs and resources assessment, the activities/interventions proposed, and anticipated results and benefits (e.g., a diagram (logic model) for demonstration purposes).

4. The extent to which the design and implementation of its evaluation plan is methodologically sound, appropriate to the activities/interventions implemented, and demonstrates the extent to which program goals/objectives will be achieved.

5. The extent to which the applicant has allocated sufficient funds in the project budget to implement the proposed evaluation activities.

6. The extent to which the evaluation plan reflects sensitivity to technical, logistical, cultural, and ethical issues that may arise and includes realistic strategies for the resolution of difficulties.

7. The extent to which the evaluation plan adequately protects human subjects, confidentiality of data, and consent procedures, as appropriate.

8. If any distance learning technique is to be employed, the extent to which it is related to specific desired results for specified providers and there is a means by which to test for these results or contrast the results of distance learning with other techniques for providing information and assistance and supporting quality among child care providers. (If distance learning is not an element of the project, this sub-criterion does not apply.)

Criterion 5. Staff and Position Data/Organizational Profiles (10 Points)

1. The extent to which the applicant (Local Council) provides information and evidence of its management and administrative structure including its organizational capacity, and if applicable, that of its Fiscal Agent. Organizational capacity includes: (a) The extent to which the ability to manage a project of the proposed size and scope is demonstrated; (b) the extent to which successful experience with the target population is demonstrated; (c) the extent to which a Local Council (and/or designated individuals) is qualified and experienced to manage the project is demonstrated; (d) the extent to which a commitment to develop and sustain working relationships among key stakeholders is demonstrated; (e) the extent to which experience and commitment of any third parties including consultants is demonstrated; and (f) the extent to which an appropriate organizational structure, including the management information system, to implement the project is demonstrated.

2. The extent to which the applicant (Local Council) demonstrates its staff and organizational experience particularly in areas of facilitating needs and resources assessments and collaborative activities as they relate to early learning services. The extent to which the applicant documents its experience in facilitating such activities and the length of time the applicant has been involved in these activities. The extent to which the applicant clearly shows the successful management of projects of similar scope by the organization, and/or by the individuals designated to manage the project.

3. The extent to which the applicant provides position descriptions and/or resumes of key personnel, including those of consultants, which clearly relate to the personnel staffing required to achieve the ELOA project objectives and the proposed budget. The extent to which the position descriptions and resumes clearly describe the qualifications, any specialized skills, and duties for each position necessary for overall quality implementation of the project. The extent to which resumes are provided for individuals who have been identified for positions in the project. The extent to which the applicant lists organizations and consultants who will participate in the project along with a short description of the nature of their effort or contribution.

4. The extent to which the applicant describes its agency including the types, quantities, and costs of services it provides. The extent to which the applicant discusses the role of other organizations that will be involved in providing direct services to children and families through this grant.

5. If the Local Council plans to work with a fiscal agent, that entity, its qualifications, and its relationship to the Council must be described. The extent to which the applicant and/or its fiscal agent demonstrates that it has sufficient fiscal and accounting capacity to ensure prudent use, proper disbursement, and accurate accounting of funds.

6. The extent to which the applicant provides organizational charts for the Local Council, its members, and any third-party, including a list of all sites, addresses, phone numbers, and staff contacts and titles.

7. The extent to which the applicant demonstrates active participation of the entire Local Council in the development of its application and the project, including a description of the ongoing role of the Local Council in the implementation of the project, and methods for documenting its participation (e.g., minutes of council meetings, council resolutions, newspaper articles, and community surveys).

8. The extent to which the applicant includes third-party agreements with cooperating entities, which detail the scope of work to be performed, work schedules, remuneration, and any other terms and conditions that structure or define the relationship. Information about new agreements that will be executed with subgrantees, contractors, or other cooperating entities should also be included. If no written agreements exist, sample/draft agreements may be submitted.

9. The extent to which the applicant demonstrates support for the project from parents, the community at-large, and other key leaders and stakeholders.

10. The extent to which the applicant demonstrates a feasible plan for securing resources and continuing project activities, if applicable, after Federal assistance has ceased. The extent to which the applicant demonstrates its understanding that ACF is interested in funding projects that will be completed, self-sustaining, or financed by other than ELOA funds at the end of the project period.

Criterion 6. Budget and Budget Justification (10 Points)

1. The extent to which the applicant demonstrates that the funds requested will be used for early learning services that are allowed under this announcement. The extent to which the discussion refers to (1) the budget information presented on Standard Forms 424 and 424A and the applicant's budget justification and (2) the results or benefits identified under Criterion 3 above.

2. The extent to which the project's costs are reasonable in view of the activities to be carried out, that the funds are appropriately allocated across component areas, and that the budget is sufficient to accomplish the objectives.

3. The extent to which the applicant's narrative budget justification provides detailed calculations that describes how the categorical costs are derived. The extent to which the applicant's detailed calculations must include estimation methods, quantities, unit costs, and other similar quantitative detail sufficient for the calculation to be duplicated. The extent to which the applicant specifies the costs for the entire 17-month ELOA project period, not separate costs into 12-month and five-month budgets.

4. The extent to which the applicant provides sufficient funds in the project budget to implement the proposed evaluation activities.

5. If there is a distance learning component of the project, and that component includes evaluation of the efficacy of any distance learning technique(s) for child care providers, the extent to which the costs of that evaluation are adequately considered and provided for in the budget.

6. The extent to which funds are allocated to allow two representatives from the Local Council to attend one two-day grantee meeting in Washington, DC.

7. The extent to which the applicant provides Letter(s) of Commitment from the State, local, public and private organizations/agencies, and any other source that will be contributing toward the applicant's non-Federal share of project costs. The extent to which the Letter(s) of Commitment state the amount to be contributed and the form of the contribution (i.e., cash or in-kind).

Note: Letter(s) of Commitment are not to be confused with Letter(s) of Support or with the Local Council's Letter of Designation by an Entity of Local Government.

2. Review and Selection Process

A. Initial Screening for Eligibility and Conformance

Each application will undergo an eligibility and conformance review by Federal Child Care Bureau staff. Applications that pass the eligibility and conformance review will be evaluated on a competitive basis according to the specified evaluation criteria.

B. Competitive Review Process

The competitive review will be conducted in the Washington, DC metropolitan area by panels of Federal and non-Federal experts knowledgeable in the areas of literacy, early learning, child care, early childhood education, and other relevant program areas.

Application review panels will assign a score to each application and identify its strengths and weaknesses.

C. Application Consideration and Selection

The Child Care Bureau will conduct an administrative review of the applications and results of the competitive review panels and make recommendations for funding to the Commissioner, ACYF.

Subject to the recommendation of the Child Care Bureau's Associate Commissioner, the Commissioner, ACYF, will make the final selection of the applications to be funded. An application may be funded in whole or in part depending on: (1) The ranked order of applicants resulting from the competitive review; (2) staff review and consultations; (3) the combination of projects that best meets the Bureau's objectives; (4) the funds available; (5) the statutory requirement that reserves funds for Indian Tribes, and Alaska Native Regional Corporations, and Native Hawaiian entities; and (6) other relevant considerations. The Commissioner may also elect not to fund any applicants with known management, fiscal, reporting, program, or other problems, which make it unlikely that they would be able to provide effective services.

Approved but Unfunded Applications: Should more FY 2004 ELOA applications be approved for funding than ACYF can fund with available ELOA monies, the Grants Officer shall fund applications in their order of approval until the available funds are expended. When this occurs, ACYF has the option of carrying-over the approved applications to FY 2005 for funding consideration in that ELOA grant competition. These applications need not be reviewed nor scored again as long as the ELOA program's evaluation criteria do not change from FY 2004 to FY 2005. However, the approved but not funded applications must be placed in the proper rank order with the new FY 2005 ELOA applications.

VI. Award Administration Information

1. Award Notices

The successful applicants will be notified through the issuance of a Financial Assistance Award document, which sets forth the amount of funds granted, the terms and conditions of the grant award, the effective date of the award, and the budget period for which support is given, the no-federal share to be provided, and the total project period for which support is provided. The Financial Assistance Award will be signed by the Grants Officer and transmitted via postal mail.

Organizations whose applications will not be funded will be notified in writing.

2. Administrative and National Policy Requirement

45 CFR Parts 16, 30, 46, 74, 75, 76, 80, 81, 84, 86, 91, 92, 93, and 100.

37 CFR Part 401.

3. Reporting Requirements

Programmatic Reports: Semi-annually and a final report is due 90 days after the end of the grant period.

Financial Reports: Semi-annually and a final report is due 90 days after the end of the grant period.

Original reports and one copy should be mailed to: William Wilson, Grants Officer, 330 C Street SW, Room 2070, Washington, DC 20447.

Audits: Audits will be conducted in accordance with guidelines established in the revised OMB Circular No. A-123, “Audits of States, Local Governments, and Non-Profit Organizations,” and implemented in 7 CFR Part 3052. In accordance with the provisions of OMB Circular No. A-133 (Revised, June 24, 1997), Audits of States, Local Governments, and Nonprofit Organizations, nonfederal entities that expend financial assistance of $300,000 or more in Federal awards will have a single or a program-specific audit conducted for that year. Nonfederal entities that expend less than $300,000 a year in Federal awards are exempt from Federal audit requirements for that year, except as noted in Circular A-133. Additional audits may be necessary.

Records: Grantees must maintain separate records for each grant to ensure that funds are used for the purpose for which the grant was awarded. All matching contributions must be verifiable in the grantee organization's records. Records are subject to inspection during the life of the grant and for three years thereafter.

VII. Agency Contacts

A. Program Office Contact

Carol L. Gage, ELOA Program Area Manager, 330 C Street SW., Room 2330/2046, Washington, DC 20447, 202-690-6243, cgage@acf.hhs.gov.

B. Grants Management Office Contact

William Wilson, Grants Officer, 330 C Street SW., Room 2070, Washington, DC 20447, 202-205-8913, wwilson@acf.hhs.gov.

C. General

Technical Assistance to Prospective Applicants about the application process or problems linking to the full announcement contact the ACYF Operations Center and refer to the ELOA Funding Opportunity Number: Toll free: 1-866-796-1591, CCB@dixongroup.com.

VIII. Other Information

Electronic Link to Announcement: Copies of this Program Announcement may be downloaded approximately 5 days after publication in the Federal Register from the Child Care Bureau's Web site at http://www.acf.hhs.gov/programs/ccb/.

Dated: June 4, 2004.
Frank Fuentes,
Deputy Commissioner, Administration on Children, Youth and Families.

Appendix A.—Sample 1—Letter of Designation of the Local Council by an Entity of Local Government

Date

To Whom It May Concern:

Under the authority granted by the (Specify Source of Authority to Act on behalf of the Entity of Local Government), I/We hereby designate the (Insert Name of Local Council) as the eligible Local Council for the (Insert the name(s) of localities to be served by the Local Council (e.g., city(ies), county(ies), borough(s), etc.)) for the purposes of applying for a discretionary grant under the Early Learning Opportunities Act (ELOA) program. I/We also authorize the (Insert Name of Local Council) to develop and submit an application to the Administration on Children, Youth and Families, Child Care Bureau in response to the ELOA Funding Opportunity Number: HHS-ACF-CCB-ELOA-04-01, and to administer the implementation of the project if funded.

As required under the statute governing ELOA, the (Insert Name of Local Council) includes: (1) Representatives of local agencies that will be directly affected by early learning programs assisted under the ELOA and this announcement; (2) parents; (3) other individuals concerned with early learning issues in the locality, such as representatives of entities providing elementary education, child care resource and referral services, early learning opportunities, child care, and health services; and (4) other key community leaders.

The Insert Name of Local Council was responsible for preparing and submitting the enclosed application for the ELOA discretionary grant program.

Sincerely,

Signed and dated by an individual with authority to represent the entity of local government (e.g., mayor, city/county manager, city/county executive, city/county council, board of supervisors, select board, etc.)

Appendix B.—Sample 2—Letter of Designation of the Local Council and Identification of the Fiscal Agent by an Entity of Local Government

Date

To Whom It May Concern:

Under the authority granted by the (Specify Source of Authority to Act on behalf of the Entity of Local Government), I/We hereby designate the (Insert Name of Local Council) as the eligible Local Council for the (Insert the name(s) of localities to be served by the Local Council (e.g., city(ies), county(ies), borough(s), etc.)) for the purposes of the Early Learning Opportunities Act (ELOA) discretionary grant program. I/We also authorize the (Insert Name of Local Council) to develop and submit an application to the Administration on Children, Youth and Families, Child Care Bureau in response to the ELOA Funding Opportunity Number: HHS-ACF-CCB-ELOA-04-01, and to administer the implementation of the project if funded.

I/We hereby authorize the (Insert Name of Fiscal Agent) to serve as the Fiscal Agent on behalf of the (Insert Name of Local Council) and the Fiscal Agent's Employer Identification Number (EIN) is: _____ and this EIN has been entered in Item 6 on the Application for Federal Assistance (SF-424).

As required under the statute governing ELOA, the (Insert Name of Local Council) includes: (1) Representatives of local agencies that will be directly affected by early learning programs assisted under the ELOA and this announcement; (2) parents; (3) other individuals concerned with early learning issues in the locality, such as representatives of entities providing elementary education, child care resource and referral services, early learning opportunities, child care, and health services; and (4) other key community leaders.

The (Insert Name of Local Council) was responsible for preparing and submitting the enclosed application for the ELOA discretionary grant program.

Sincerely,

Signed and dated by an individual with authority to represent the entity of local government (e.g., mayor, city/county manager, city/county executive, city/county council, board of supervisors, select board, etc.)

Appendix C.—Sample Format for Providing Information on the Composition of the Local Council

Member's name | Title | Role | Agency
L. M. Peterson | Superintendent | C | Emerald City Public Schools.
Rev. P. Nelson | Director, Child & Family Services | A, D | Holy Trinity Church.
Patricia Lawson | Director | A | Happy Days Child Care.
Fr. Michael Bates | Child & Family Program Manager | A, D | Catholic Charities.
Michele Dixon | Director | C | Child Care Resource & Referral.
Angela Bauer | Director | B | St. James Head Start.
Monica Presley | Director | C | Emerald County Health Dept.
Marsha Severn | Chair | D | Emerald City Chamber of Commerce.
Peggy Davis | Family Child Care Provider | C
Sarah Curtis | Autism Consultant | A | Emerald City Public Schools.
Susan Meyers | Parent of Young Child | B
Susan LaPierre | President | A | Emerald County Community College.
Alberta Collins | Vice President | D | Emerald City United Way Services.
Frank Jimenez | County Manager | D | Emerald County.
Sean Red Cloud | Consultant | D | Lakota Community Services.
Christopher Potter | Parent of Young Child | B
Harriet Huggins | Director | C | Emerald County Social Services Dept.
Isabella Flores | Director | D | La Puerta Fundacíon.
T. Rex Reid | President | D | Emerald City Bank.
Lionel Mejias | Director | A | Early Childhood Services, Inc.
Ameila Quigley | Program Parent | B | Parents and Teachers.
Amy Takmamura | Director | A | Emerald City Child Care Consortium.
Juana Garcia | Director, Special Education | A | Emerald City Public Schools.

Legend:

A = Representatives of local agencies that will be directly affected by early learning programs assisted under the ELOA and this announcement.

B = Parents.

C = Other individuals concerned with early learning issues in the locality, such as representatives of entities providing elementary education, child care resource and referral services, early learning opportunities, child care, and health services.

D = Other key community leaders.

Appendix D.—FY 2002 Early Learning Opportunity Act Grantees and Geographic Service Areas

Thirty-one Early Learning Opportunity Act (ELOA) grants were awarded in FY 2002. Listed below is the name of each grantee, the title of its project, and its geographic service area. These 31 grants were all awarded a 17-month project period (i.e., September 30, 2002-February 28, 2004). However, many of the grantees are likely to request and be approved a no cost extension to their February 28, 2004 project period end date. The length of an extension will vary from grantee-to-grantee, with the minimum extension being one month and the maximum being 12 months.

FY 2004 applicants proposing to serve all or part of a geographic area currently being served by an ELOA grantee whose grant is expected to be in effect on September 30, 2004 will be excluded and not competed for an award. To learn whether or not the project period for any of the FY 2002 ELOA grantees listed below has been extended, you may contact Carol L. Gage, the ELOA Program Area Manager, at 202-690-6243 or cgage@acf.hhs.gov.

State | Grantee's fiscal agent | Local council (ELOA grantee) | Project title | Geographic service area
Arizona (Chandler) | n/a | Mayor's Literacy Task Force | Chandler Steps to Learning Project: A Community-based Early Learning and Parent Assistance Program | City of Chandler.
Colorado (Denver) | The Clayton Foundation on behalf of the | City of Denver and Denver Public Schools Joint Council on Early Childhood Care and Education | Early Learning Opportunities Project | City & County of Denver.
Connecticut (Manchester) | Town of Manchester on behalf of the | Manchester School Readiness Council | Manchester Early Learning Opportunities Project | Town of Manchester.
District of Columbia | DC Department of Human Services on behalf of the | Mayor's Advisory Committee on Early Childhood Development | DC Early Learning Opportunities Program | Wards 1, 7, & 8 in the District of Columbia.
Florida (Miami) | n/a | Miami-Dade School Readiness Coalition | Early Authors Program | Miami-Dade County.
Georgia (Atlanta) | n/a | Family Connection Partnership | South Georgia EXCEL (Excellence in Childcare and Learning) | Coffee, Crisp, Mitchell, & Turner Counties.
Hawaii (Honolulu) | Good Beginnings Alliance on behalf of the | Good Beginnings Oahu Council | Expanding Oahu's Early Learning Opportunities | The island of Oahu with special attention in the Waianae, Waimanalo, & Kalihi communities.
Idaho (Pocatello) | United Way of Southeastern Idaho on behalf of the | Success By 6 | Bannock County Ready to Learn Project | Bannock County.
Maine (Wilton) | Western Maine Centers for Children on behalf of the | Western Maine Alliance for Children's Care, Education, and Support (ACCESS) | Western Maine ACCESS Early Learning Opportunity Grant | Androscoggin, Franklin, & Oxford Counties.
Massachusetts (Boston) | Economic Development and Industrial Corporation on behalf of the | 0-8 Coalition | Boston Learns: An Early Literacy Collaborative for Children, Families, and Educators | City of Boston including the neighborhoods of Mattapan, Roslindale, & Hyde Park.
Massachusetts (Cambridge) | Cambridge Public Schools on behalf of the | Cambridge 0-8 Council | Accelerating Language and Literacy for Children, Families, and Providers | City of Cambridge.
Massachusetts (Lowell) | Lowell Public Schools District on behalf of the | Lowell Community Partnership for Children | Lowell Community Partnerships for Children Early Learning Opportunities Initiative | City of Lowell.
Michigan (Grand Rapids) | Heart of West Michigan United Way on behalf of the | Kent County Family and Children's Coordinating Council | Connections For Children | Kent County.
Minnesota (Minneapolis) | n/a | Minneapolis Youth Coordinating Board | Minneapolis Youth Coordinating Board Readiness Initiative | City of Minneapolis.
New Hampshire (Manchester) | Easter Seals New Hampshire on behalf of the | Early Learning Lasts a Lifetime Local Council of Southeastern New Hampshire | Links to Early Learning | Rockingham & Strafford Counties.
New York (Binghampton) | Broome Community College on behalf of the | Broome County Early Childhood Coalition | Building Brighter Futures For Broome | Broome County.
North Carolina (Lenoir) | Communities In Schools of Caldwell County Inc. on behalf of the | Local Council for Early Childhood Development | Early Learning Opportunities Movement | Caldwell County.
Oklahoma (Pawhuska) | Osage Tribe of Indians of Oklahoma on behalf of the | Osage Tribal Council | Osage Nation Early Learning Center | Osage Indian Tribal Reservation in Osage County.
Rhode Island (Providence) | The Providence Plan on behalf of the | Ready to Learn Providence Local Council | Ready to Learn Providence | City of Providence.
South Carolina (Lancaster) | n/a | Lancaster County First Steps | Lancaster County First Steps | Lancaster County.
South Carolina (Beaufort) | Beaufort County Council on behalf of the | Beaufort County Early Childhood Coalition | Beaufort County Early Childhood Coalition | Beaufort County.
Texas (El Paso) | El Paso Community College on behalf of the | Strong Families, Strong Future Council | Using a Promotor de Salud to Promote Early Learning in At-Risk Populations along the US-Mexico Border | El Paso County.
Texas (Levelland) | South Plains Community Action Association, Inc. on behalf of the | South Plains Early Childhood Council | On the Road with Literacy | Counties of Bailey, Cochran, Crosby, Dickens, Garza, Hale, Hockley, Lamb, Floyd, Lynn, Lubbock, Terry, King, Motely, & Yoakum.
Vermont (Swanton) | Franklin Northwest Supervisory Union on behalf of the | Franklin County Early Childhood Advisory Council | Franklin County Early Learning Opportunities Project | Franklin County.
Virginia (Fairfax) | Fairfax County Board of Supervisors on behalf of the | Childcare Advisory Council | Fairfax Collaborative | Fairfax County including the cities of Falls Church & Fairfax.
Virginia (Harrisonburg) | United Way of Harrisonburg & Rockingham County, Inc. on behalf of the | United Way Success By 6 Coalition | The Reading Road Show Early Literacy Initiative | Rockingham County & the City of Harrisonburg.
Virginia (Norfolk) | n/a | Hampton Roads Partnership Square One | Square One School Readiness Initiative | Region known as Hampton Roads including 17 localities: Cities of Chesapeake, Franklin, Hampton, Newport News, Norfolk, Poquoson, Portsmouth, Smithfield, Suffolk, Virginia Beach, & Williamsburg & the Counties of Gloucester, Isle of Wight, James City, Southampton, Surry, & York.
Washington (Spokane) | Health Improvement Partnership of Spokane County on behalf of the | Spokane Regional Child Care Initiative | Strengthening Early Learning in Spokane County | Spokane County.
Washington (Vancouver) | Educational Service District 112 on behalf of the | Support Early Learning and Families Local Council | Every Moment Counts: Achieving School Readiness in Clark County | Clark County.
West Virginia (Huntington) | Huntington West Virginia Housing Authority on behalf of the | Cabell-Wayne Early Childhood Council | ERASE (Education, Rurality, Accessibility, Service, and Economic) Barriers Project | Cabell & Wayne Counties.
West Virginia (Webster Springs) | Webster County Board of Education on behalf of the | Early Care and Education Consortium | More by Four—Ready by Five | Webster County.

Appendix E.—FY 2003 Early Learning Opportunity Act Grantees and Geographic Service Areas

Forty-three Early Learning Opportunity Act (ELOA) grants were awarded in FY 2003. Listed below is the name of each grantee, the title of its project, and its geographic service area. The 17-month project period for these grants is September 30, 2003—February 28, 2005. The ELOA Program Area Manager is Carol L. Gage, who can be reached at 202-690-6243 or cgage@acf.hhs.gov.

State | Grantee's fiscal agent | Local council (ELOA grantee) | Project title | Geographic service area
Alabama (Huntsville) | National Children's Advocacy Center on behalf of the | Children's Policy Council for Huntsville City and Madison County | Building Blocks Project | Huntsville City & Madison County.
Alaska (Barrow) | Ilisagvik College on behalf of the | Community Child Care Council of the Arctic Slope Native Association | Earlying Learning Enhancement for the North Slope Borough of Alaska | North Slope Borough.
Arizona (Nogales) | Santa Cruz County Schools Office on behalf of the | Santa Cruz County Schools Consortium | Santa Cruz County Early Learning-Learning Together/Aprendiendo Temprano—Aprendiendo Juntos Program | Santa Cruz County.
California (Merced) | Merced County Office of Education on behalf of the | Merced County Local Childcare Planning Council | CELO—Coalition for Early Learning Opportunity | Merced County.
Califronia (NAPA) | Napa County Office of Education on behalf of the | Napa County Child Care Planning Council | The EARLY II Project (Enhancing Accessibility and Readiness for Learning by Young children) | Napa County.
California (Oroville) | Butte County Office of Education on behalf of the | Butte County Local Child Care Planning Council | Beginning Early Learning and Literacy Success | Butte County.
California (Pleasant Hill) | Contra Costa County Office of Education on behalf of the | Contra Costa County Local Planning Council | Contra Costa County Early Learning Project | Contra Costs County.
California (Redwood City) | San Mateo County Superintendent of Schools on behalf of the | San Mateo County Child Care Partnership Council | The San Mateo County Early Learning Project | San Mateo County.
California (San Diego) | San Diego County Superintendent of Schools on behalf of the | San Diego County Child Care and Development Planning Council | Project MENTOR (Meeting Educational Needs Through Outreach) | North San Diego County: Escondido, Vista, Oceanside, & Poway.
California (Shingle Springs) | n/a | First 5 El Dorado Children and Families Commission | Early Learning Matters | El Dorado County.
Colorado (Dillon) | n/a | Summit County Child Care Resource & Referral Agency | Summit County Reading Early Always Learning (R.E.A.L.) Project | Summit County.
Delaware (Wilmington) | City of Wilmington on behalf of the | Wilmington Early Care and Education Council | Wilmington Cares | City of Wilmington.
Florida (Orlando) | Orange County School readiness Coalition on behalf of the | Mayor's Education Action Council | Orlando's Ore-K Enrichment Project | City of Orlando.
Florida (Pineallas Park) | Juvenile Welfare Board of Pinellas County on behalf of the | Pinellas County School Readiness Coalition, Inc | Pinellas Early Literacy Learning Community Program | Pinellas County.
Georgia (Atlanta) | United Way of Metropolitan Atlanta on behalf of the | Central DeKalb SPARK Partnership | Lighting the SPARK | DeKalb County.
Iowa (Webster City) | Hamilton County Auditor on behalf of the | Building Families | Early Childhood Enhancement Institute | Hamilton, Humbodlt, & Wright Counties.
Kansas (Topeka) | United Way of Greater Topeka on behalf of the | Topeka Area Child Care Advisory Council | Topeka Links to Learning | Shawnee County.
Louisiana (Monroe) | n/a | Children's Coalition for Northeast Louisiana | Ouachita Parish Right Start Program | Cities of Monore & West Monroe.
Maine (Waterville) | Kennebec Valley Community Action Program on behalf of the | Kennebec/Somerset Alliance for Children's Care, Education, and Support Services (ACCESS) | Project PLUS | Kennebec & Somerset Counties.
Maine (Wiscasset) | Coastal Enterprises, Inc. on behalf of the | Coastal Alliance for Children's Care, Education, and Support (ACCESS) | Coastal Early Care and Education Project | Northern Cumberland, Sagadahoc, Lincoln, Waldo, & Know Counties.
Maryland (Baltimore) | n/a | Family Support Strategy Committee of the Family League of Baltimore City, Inc | Baltimore's Early Literacy for Families (ELF) Project | 4 Communities in East/West Baltimore City: Druid Heights, Reservoir Hill, Upton; historic East Baltimore; Sandtown, Winchester, Harlem Park; & South-west Baltimore Consortium.
Maryland (Centreville) | Queen Anne's County Office of Finance on behalf of the | Queen Anne's County Community Partnerships for Children | Families First Play to Learn Center | Queen Anne County.
Maryland (Charlotte Hall) | n/a | Southern Maryland Child Care Resource Center | Southern Maryland Early Literacy Project | Calvert, Charles, & St. Mary's Counties.
Massachusetts (Northampton) | Hampshire Educational Collaborative on behalf of the | Eastern and South Hadley Community Partnership for Children | Early Learning Web Project | 5 rural communities in western Massachusetts; Belchertown, South Hadley, & Ware (Hampshire County) & Monson & Palmer (Hampden County).
MIchigan (Adrian) | Lenawee Intermediate School District of behalf of the | Lenawee's CHILD Advisory Council | Lenawee's CHILD: Communities Helping to Increase Learning and Development | Lenawee County.
Michigan (Detroit) | Southwest Counseling and Development Services on behalf of the | Family Support Team of Southwest Detroit | New Steps—Organizing the Community for New Steps to Early Learning | Wayne County.
Minnesota (W. St. Paul) | Dakota County Public Health Department on behalf of the | Dakota Healthy Families Steering Team | Dakota Healthy Families Early Learning Project | Dakota County.
Missouri & Kansas (Kansas City, MO) | Mid-America Regional Council on behalf of the | Metropolitan Council on Child Care | Kansas City Early Childhood Excellence Project Phase II | Kansas: Johnston, Leavenworth, & Wyandotte Counties; Missouri: Cass, Clay, Jackson, Platte, & Ray Counties.
New Jersey (Galloway) | AlantiCare Foundation on behalf of the | United Way of Atlantic County Success by 6 Initiative | Parents As Teachers | Atlantic County.
New Jersey (Hillside) | Community Coordinated Child Care on behalf of the | Union County Association of Child Care Providers | Union County Early Learning Opportunities Project | Union County.
North Carolina (Morgantown) | n/a | Burke County Partnership for Children | Asset-Based Literacy and Learning Initiative (ABBL) | Burke & Catawba Counties.
New Mexico (Santa Fe) | United Way of Santa Fe County on behalf of the | Success by 6 Council | Success By 6 Early Literacy Project | Santa Fe County.
Pennsylvania (Wilkes-Barre) | United Way of Wyoming Valley on behalf of the | Children's Alliance of Luzerne County | Healthy Families of Luzerne County | Luzerne County.
South Carolina (Greenville) | United Way of Greenville County of behalf of the | United Way of Greenville County Success By 6 Child Care Initiative | STEPS (Staff-Training-Environments-Parenting-Scholarships) | Greenville County.
Texas (Austin) | The Austin Project on behalf of the | Austin Child Care Council | Ticket to Learn—Early Learning Opportunities Initiative | 4 contiguous zip codes within the City of Austin, Travis County: 78723, 78752, 78753, & 78758.
Texas (Corpus Christi) | United Way of the Coastal Bend on behalf of the | Success by 6 Local Council | Coastal Bend Early Learning Opportunities Project | 12-county Coastal Bend region of South TX: Arkansas, Bee, Brooks, Duval, Jim Wells, Kennedy, Kleberg, Live Oak McMullen, Nueces, Refugio, & San Patricio.
Texas (Houston) | Initiatives for Children on behalf of the | Greater Houston Collaborative for Children Governing Committee | HELP (Harris County Early Learning Program for Kids) | Harris County.
Virginia (Richmond) | United Ways Services Success by Six on behalf of the | Greater Richmond Early Child Development Coalition | Project EXCEL: EXcellence for Children and Eearly Learning | City of Richmond & the Counties of Chesterfield & Henrico.
Washington (Oakville) | Confederated Tribes of the Chehalis Reservation on behalf of the | South Puget Council Tribal Local Council | Tribal Early Learning Opportunities Project | Chehalis Indian Reservation & Skokomish Reservation.
Washington & Idaho (Pullman) | Palouse Industries, Inc. on behalf of the | Early Childhood Service Council for Latah County, ID and Whitman County, WA | Young Children and Family Programs on the Palouse | Latah County, Idaho & Whitman County, Washington, an area geographically known as the “Palouse”.
West Virginia (Elkins) | Youth Health Service, Inc. on behalf of the | Randolph & Barbour County Early Childhood Collaboratives | Appalachian Readers | Randolph & Barbour Counties.
Wisconsin (Appleton) | Child Care Resource and Referral, Inc. on behalf of the | Healthy Infant and Child Alliance, Inc | Quality Early Literacy Environments | Calumet, Outagamie, & Waupaca Counties.
Wisconsin (Eau Claire) | Eau Claire County Department of Human Services on behalf of the | Connect for Children Council | Connect for Children Early Learning Project | Eau Claire County.

[FR Doc. 04-13079 Filed 6-10-04; 8:45 am]

BILLING CODE 4184-01-P